DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the proposed extension of the collection of the State Income and Eligibility Verification provisions of the Deficit Reduction Act. A copy of the proposed information collection request (ICR) can be obtained by contacting the office listed below in the addressee section of this notice.

DATES: Written comments must be submitted to the office listed in the addressee section below on or before January 2, 2001.

ADDRESSES: Lorenzo Roberts, Office of Workforce Security, 200 Constitution Ave. N.W., Room S-4231 Frances Perkins Building, Washington, D.C. 20210; telephone 202-219-5616, ext. 175; FAX 202-219-8506 (these are not toll-free numbers).

SUPPLEMENTARY INFORMATION:

I. Background

The Deficit Reduction Act of 1984 established an income and eligibility verification system for the exchange of information among State agencies administering specific programs. The programs are: Aid to Families with Dependent Children, Medicaid, Food Stamps, Supplemental Security Income, Unemployment Compensation and any State program approved under Title I, X, XIV, or XVI of the Social Security Act. Under the Act, programs participating must exchange information to the extent it is useful and productive in verifying eligibility and benefit amounts to assist in the child support program and the Secretary of Health and Human Services in verifying eligibility and benefit amounts under Titles II and XVI of the Social Security Act.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

As the only continuous source of information on the Income and Eligibility program, the data is required to monitor and evaluate that program.

Type of Review: Extension without change.

Agency: Employment and Training Administration.

Title: Income and Eligibility.

OMB Number: 1205-0238.

Agency Number: None.

Affected Public: State Governments.

Total Respondents: 53.

Frequency: Quarterly.

Total Responses: 212.

Average Time per Response: 10 minutes.

Estimated Total Burden Hours: 39388 hours.

Report | Total respondents | Frequency | Total responses | Average time per response | Burden (hrs.)
New & additional claims | ¹ 9.3 | Annually | ¹ 9.3 | 2 Second | 8,388
New claims | 186,100 | Annually | 186,100 | 10 minutes | 31,000
Totals | 9,486,000 |  | 9,486,000 |  | 39,388
¹ Million.

Total Burden Cost (operating/maintaining): At approximately $25 per hour average State salary, the State burden is estimated at $984,700 per year.

Comments submitted in response to this comment request will be summarized and/or included in the request for Office of Management and Budget approval of the information collection request; they will also become a matter of public record.

Dated: October 26, 2000.
Grace A. Kilbane,
Director, Unemployment Insurance Service, Employment and Training Administration.

[FR Doc. 00-28140 Filed 11-1-00; 8:45 am]

BILLING CODE 4510-30-P